DEPARTMENT OF ENERGY

Federal Energy Regulatory Commission

[Project No. 2842-046]

City of Idaho Falls, Idaho; Notice of Effectiveness of Withdrawal of Application for Temporary Variance of License

On December 2, 2024, and supplemented on February 7, 2025, City of Idaho Falls, Idaho (licensee) filed a request for a temporary variance of license requirements for the 27.9-megawatt Idaho Falls Hydroelectric Project No. 2842. On June 9, 2025, the licensee filed a request to withdraw its request.

No motion in opposition to the request for withdrawal has been filed, and the Commission has taken no action to disallow the withdrawal. Pursuant to Rule 216(b) of the Commission's Rules of Practice and Procedure,¹ the withdrawal of the variance request became effective on June 24, 2025, and this proceeding is hereby terminated.

¹ 18 CFR 385.216(b) (2024).

Dated: June 25, 2025.
Debbie-Anne A. Reese,
Secretary.

[FR Doc. 2025-12109 Filed 6-27-25; 8:45 am]

BILLING CODE 6717-01-P